FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 7, 2015.

A. Federal Reserve Bank of Kansas City (Dennis Denney, Assistant Vice President) 1 Memorial Drive, Kansas City, Missouri 64198-0001:

1. John E. Boyer, individually and as trustee of the Merlyn Boyer Irrevocable GST Trust, the John E. Boyer Grandchildren's Trust, the Emily Ryan Boyer Irrevocable Trust, and the Jack Eric Boyer Irrevocable Trust, all of Kingman, Kansas; and Emily Boyer, Kingman, Kansas, as a member of The Boyer Family Group; to retain voting shares of KANZA Financial Corporation, parent of KANZA Bank, both in Kingman, Kansas.

Board of Governors of the Federal Reserve System, March 18, 2015.
Michael J. Lewandowski,
Associate Secretary of the Board.

[FR Doc. 2015-06561 Filed 3-20-15; 8:45 am]

BILLING CODE 6210-01-P